DEPARTMENT OF AGRICULTURE

Forest Service

Hood/Willamette Resource Advisory Committee

AGENCY: Forest Service, USDA.

ACTION: Notice of meeting.

SUMMARY: The Hood/Willamette Resource Advisory Committee will meet in Salem, Oregon. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is to review and recommend projects authorized under title II of the Act.

DATES: The meeting will be held on September 27, 2012, at 9:30 a.m.

ADDRESSES: The meeting will be held at Salem Office of the Bureau of Land Management Office, 1717 Fabry Road SE., Salem, Oregon; (503) 375-5646. Written comments may be submitted as described under Supplementary Information. All comments, including names and addresses when provided, are placed in the record and are available for public inspection and copying. The public may inspect comments received at Mt. Hood National Forest, 16400 Champion Way, Sandy, Oregon.

FOR FURTHER INFORMATION CONTACT: Connie Athman, Mt. Hood National Forest, 16400 Champion Way, Sandy, OR 97055; (503) 668-1672; Email: cathman@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The following business will be conducted: (1) Election of chairperson; (2) decision on overhead rate for 2013 projects; (3) Public Forum; and (4) Recommendation on 2013 projects. The Public Forum is tentatively scheduled to begin at 10:15 a.m. The agenda will include time for people to make oral statements of three minutes or less. Written comments are encouraged, particularly if the material cannot be presented within the time limits for the Public Forum. Anyone who would like to bring related matters to the attention of the committee may file written statements with the committee staff before or after the meeting. Written comments may be submitted by sending them to Connie Athman at the address or email given above. A summary of the meeting will be posted at https://fsplaces.fs.fed.us/fsfiles/unit/wo/secure_rural_schools.nsf within 21 days of the meeting.

Meeting Accommodations: If you are a person requiring resonable accomodation, please make requests in advance for sign language interpreting, assistive listening devices or other reasonable accomodation for access to the facility or procedings by contacting the person listed under FOR FURTHER INFORMATION CONTACT. All reasonable accommodation requests are managed on a case by case basis.

Dated: August 15, 2012.
Chris Worth,
Forest Supervisor.

[FR Doc. 2012-20687 Filed 8-21-12; 8:45 am]

BILLING CODE 3410-11-P